DEPARTMENT OF COMMERCE

International Trade Administration

[A-201-856]

Certain Oil Country Tubular Goods From Mexico: Final Results of Antidumping Duty Administrative Review; 2022-2023

AGENCY: Enforcement and Compliance, International Trade Administration, Department of Commerce.

SUMMARY: The U.S. Department of Commerce (Commerce) determines that certain oil country tubular goods (OCTG) from Mexico were sold in the United States at prices below normal value during the period of review (POR), May 11, 2022, through October 31, 2023.

DATES: Applicable September 5, 2025.

FOR FURTHER INFORMATION CONTACT: Tyler Weinhold, AD/CVD Operations, Office VI, Enforcement and Compliance, International Trade Administration, U.S. Department of Commerce, 1401 Constitution Avenue NW, Washington, DC 20230; telephone: (202) 482-1121.

SUPPLEMENTARY INFORMATION:

Background

On December 5, 2024, Commerce published the Preliminary Results and invited interested parties to comment on the Preliminary Results.¹ On December 9, 2024, Commerce tolled the deadline to issue the final results in the administrative review by 90 days.² On June 25, 2025, Commerce extended the final results by 60 days.³ Accordingly, the deadline for these final results is now September 2, 2025.⁴ Commerce conducted this administrative review in accordance with section 751 of the Tariff Act of 1930, as amended (the Act). A summary of the events that occurred since Commerce published these Preliminary Results, as well as a full discussion of the issues raised by parties for these final results, may be found in the Issues and Decision Memorandum.⁵

¹ See Oil Country Tubular Goods from Mexico: Preliminary Results Recission, in Part, of Antidumping Duty Administrative Review; 2022-2023, 89 FR 96639 (December 5, 2024) (Preliminary Results).

² See Memorandum, “Tolling of Deadlines for Antidumping and Countervailing Duty Proceedings,” dated December 9, 2024.

³ See Memorandum, “Extension of Deadline for Final Results of Antidumping Duty Administrative Review,” dated June 25, 2025.

⁴ Because the current deadline for these final results falls on a holiday (i.e., September 1, 2025), the deadline became the next business day (i.e., September 2, 2025). See Notice of Clarification: Application of “Next Business Day” Rule for Administrative Determination Deadlines Pursuant to the Tariff Act of 1930, As Amended, 70 FR 24533 (May 10, 2005).

⁵ See Memorandum, “Issues and Decision Memorandum for the Final Results of the Administrative Review of the Antidumping Duty Order on Certain Oil Country Tubular Goods from Mexico; 2022-2023,” dated concurrently with, and hereby adopted by, this notice (Issues and Decision Memorandum).

The Issues and Decision Memorandum is a public document and is on file electronically via Enforcement and Compliance's Antidumping and Countervailing Duty Centralized Electronic Service System (ACCESS). ACCESS is available to registered users at https://access.trade.gov. In addition, a complete version of the Issues and Decision Memorandum can be accessed directly at https://access.trade.gov/public/FRNoticesListLayout.aspx.

Scope of the Order ⁶

⁶ See Oil Country Tubular Goods from Argentina, Mexico, and the Russian Federation: Antidumping Duty Orders and Amended Final Affirmative Determination for the Russian Federation, 87 FR 70785 (November 21, 2022) (Order).

The product covered by the Order is OCTG from Mexico. For a complete description of the scope of the Order, see the Issues Decision Memorandum.⁷

⁷ See Issues and Decision Memorandum at 3-4.

Analysis of Comments Received

All issues raised in the case and rebuttal briefs filed by interested parties in this review are addressed in the Issues and Decision Memorandum. A list of topics in the Issues and Decision Memorandum is attached as Appendix I to this notice.

Changes Since the Preliminary Results

Based on our review of the record and comments received from interested parties, we made certain changes to the margin calculations for Tubos de Acero de Mexico S.A. for these final results of review.⁸

⁸ See Issues and Decision Memorandum at Comments 4 and 7; see also Memorandum, “Final Analysis Memorandum for Tubos de Acero de Mexico, S.A.,” dated concurrently with this notice.

Final Results of Review

We determine that the following estimated weighted-average dumping margin exists for the period May 11, 2022, through October 31, 2023:

Exporter/producer | Weighted- average dumping margin (percent)
Tubos de Acero de Mexico, S.A | 26.10

Disclosure

We intend to disclose the calculations performed to parties in this proceeding within five days after the date of publication in the Federal Register of these final results of review, in accordance with 19 CFR 351.224(b).

Assessment Rate

Pursuant to section 751(a)(2)(C) of the Act and 19 CFR 351.212(b)(1), Commerce shall determine, and U.S. Customs and Border Protection (CBP) shall assess, antidumping duties on all appropriate entries of subject merchandise in accordance with the final results of this review.⁹

⁹ In these final results, Commerce applied the assessment rate calculation method adopted in Antidumping Proceedings: Calculation of the Weighted-Average Dumping Margin and Assessment Rate in Certain Antidumping Proceedings: Final Modification, 77 FR 8101 (February 14, 2012).

For entries of subject merchandise during the POR produced by the respondent for which it did not know its merchandise was destined for the United States, we will instruct CBP to liquidate unreviewed entries at the all-others rate in the less-than-fair-value investigation if there is no rate for the intermediate company(ies) involved in the transaction.¹⁰

¹⁰ See Antidumping and Countervailing Duty Proceedings: Assessment of Antidumping Duties, 68 FR 23954 (May 6, 2003).

Commerce intends to issue assessment instructions to CBP no earlier than 41 days after the date of publication of the final results of this review in the Federal Register, in accordance with 19 CFR 356.8(a). If a timely summons is filed at the U.S. Court of International Trade, the assessment instructions will direct CBP not to liquidate relevant entries until the time for parties to file a request for a statutory injunction has expired (i.e., within 90 days of publication).

Cash Deposit Requirements

The following cash deposit requirements will be effective upon publication in the Federal Register of the final results of this administrative review for all shipments of the subject merchandise entered, or withdrawn from warehouse, for consumption on or after the date of publication, as provided by section 751(a)(2) of the Act: (1) the cash deposit rate for company subject to this review will be equal to the company-specific weighted-average dumping margin established in the final results of this administrative review; (2) for merchandise exported by a company not covered in this review but covered in a prior segment of the proceeding, the cash deposit rate will continue to be the company-specific rate published in the completed segment for the most recent period; (3) if the exporter is not a firm covered in this review, a prior review, or the less-than-fair-value investigation but the producer is, then the cash deposit rate will be the rate established in the most recently completed segment of the proceeding for the producer of the merchandise; and (4) the cash deposit rate for all other producers or exporters will continue to be 44.93 percent, the all-others rate established in the less-than-fair-value investigation.¹¹ These cash deposit requirements, when imposed, shall remain in effect until further notice.

¹¹ See Order, 87 FR at 70786.

Notification to Importers Regarding the Reimbursement of Duties

This notice also serves as a final reminder to importers of their responsibility under 19 CFR 351.402(f) to file a certificate regarding the reimbursement of antidumping duties prior to liquidation of the relevant entries during the POR. Failure to comply with this requirement could result in Commerce's presumption that reimbursement of antidumping duties did occur and the subsequent assessment of doubled antidumping duties.

Administrative Protective Order (APO)

This notice also serves as a reminder to parties subject to an administrative protective order (APO) of their responsibility concerning the return or destruction of proprietary information disclosed under APO in accordance with 19 CFR 351.305(a)(3), which continues to govern business proprietary information in this segment of the proceeding. Timely written notification of the return/destruction of APO materials, or conversion to judicial protective order, is hereby requested. Failure to comply with the regulations and the terms of an APO is a sanctionable violation.

Notification to Interested Parties

We are issuing and publishing this notice in accordance with sections 751(a)(1) and 777(i)(1) of the Act, and 19 CFR 351.213(h) and 19 CFR 351.221(b)(5).

Dated: September 2, 2025.
Christopher Abbott,
Deputy Assistant Secretary for Policy and Negotiations, performing the non-exclusive functions and duties of the Assistant Secretary for Enforcement and Compliance.

Appendix

List of Topics Discussed in the Issues and Decision Memorandum

I. Summary

II. Background

III. Scope of the Order

IV. Changes Since the Preliminary Results

V. Discussion of the Issues

Comment 1: Additional Thread Codes

Comment 2: U.S. Indirect Selling Expenses Incurred in a Third Country

Comment 3: Home Market Royalty Expenses

Comment 4: Constructed Export Price Offset

Comment 5: Further Manufacturing—Transactions Disregarded Rule

Comment 6: Further Manufacturing—Yield Loss Factor

Comment 7: Reporting for Product Characteristic “TYPE”

Comment 8: Home Market Credit Expenses

Comment 9: Differential Pricing Methodology

Comment 10: Undervaluation of Entered Values

Comment 11: Clerical Errors

VI. Recommendation

[FR Doc. 2025-17071 Filed 9-4-25; 8:45 am]

BILLING CODE 3510-DS-P